DEPARTMENT OF COMMERCE

Patent and Trademark Office

37 CFR Part 1

[Docket No. 011108271-ÿ7Eÿ7E1271-01]

RIN 0651-AB44

Revision of the Time Limit for National Stage Commencement in the United States for Patent Cooperation Treaty Applications

Correction

In rule document 02-157 beginning on page 520 in the issue of Friday, January 4, 2002, make the following correction:

§ 1.497 [Corrected]

On page 524, in § 1.497(c), in the third column, eighth line, “date” should read, “data”.

[FR Doc. C2-157 Filed 2-7-02; 8:45 am]

BILLING CODE 1505-01-D